DEPARTMENT OF STATE

[Public Notice: 12818]

Notice of Public Meeting in Preparation for International Maritime Organization C 135

The Department of State will conduct a public meeting at 1:00 p.m. on Monday, October 27, 2025, both in-person at Coast Guard Headquarters in Washington, DC, and via teleconference through Microsoft Teams. The primary purpose of the meeting is to prepare for the International Maritime Organization's (IMO) 135th Session of the Council (C 135) to be held at IMO Headquarters in London, United Kingdom from Wednesday, November 19, 2025, to Friday, November 21, 2025.

Members of the public may participate up to the capacity of the teleconference line, which can handle 500 participants or up to the seating capacity of the room if attending in-person. The meeting location will be the United States Coast Guard Headquarters, and the teleconference line will be provided to those who RSVP. To RSVP, participants should contact the meeting coordinator, LCDR Emily Sysko, by email at LCDR Emily.T.Sysko@uscg.mil. LCDR Sysko will provide access information for in-person and virtual attendance.

The agenda items to be considered at C 135 include:

—Adoption of the agenda;

— Report of the Secretary-General on credentials;

— Strategy and planning;

— Resource management;

— Enhancement of Multilingualism;

— IMO Number Scheme;

— IMO International Maritime Law Institute;

— Report of the Maritime Safety Committee;

— Report of the Extraordinary Session of the Marine Environment Protection Committee;

— Report of the Consultative Meeting of Contracting Parties to the London Convention 1972 and the Meeting of Contracting Parties to the 1996 Protocol to the London Protocol;

— External relations;

— Report on the status of conventions;

— Items for inclusion in the agenda for the next session of the Council (C 136);

— Supplementary agenda items;

— Consideration of the report of the Committee.

Please note: The IMO may, on short notice, adjust the C 135 agenda to accommodate the constraints associated with the virtual meeting format. Although no changes to the agenda are anticipated, if any are necessary, they will be provided to those who RSVP.

Those who plan to participate may contact the meeting coordinator, LCDR Emily Sysko, by email at Emily.T.Sysko@uscg.mil or by phone at 202-372-1376 or in writing at 2703 Martin Luther King Jr. Ave. SE, ATTN: LCDR Emily Sysko, 2703 Martin Luther King Jr. Ave. SE Stop 7509, Washington DC 20593-7509, by October 13, 2025. Members of the public needing reasonable accommodation should advise LCDR Emily Sysko no later than October 13, 2025. Requests made after that date will be considered but might not be possible to fulfill.

Additional information regarding this and other IMO public meetings may be found at: https://www.dco.uscg.mil/IMO.

(Authority: 22 U.S.C. 2656 and 5 U.S.C. 552.)

Emily C. Miletello,
Coast Guard Liaison Officer, Office of Ocean and Polar Affairs, Department of State.

[FR Doc. 2025-17239 Filed 9-8-25; 8:45 am]

BILLING CODE 4710-09-P